DEPARTMENT OF DEFENSE

Department of the Army, Corps of Engineers

Intent To Prepare a Draft Supplemental Environmental Impact Statement for the Proposed Rio Grande Floodway, San Acacia to Bosque del Apache, Socorro County, NM, Project

AGENCY: Department of the Army, U.S. Army Corps of Engineers, DoD.

ACTION: Notice of Intent.

SUMMARY: The Albuquerque District, Corps of Engineers (Corps) is preparing a draft Supplemental Environmental Impact Statement (SEIS) on the findings of an ongoing flood risk management study along the Rio Grande from San Acacia downstream to San Marcial in Socorro County, New Mexico. The purpose of the study is to reevaluate the plan of flood protection authorized by the Flood Control Act of 1948 (Pub. L. 80-858) in light of recent changes in levee design parameters and environmental resources in the study area. The tentatively proposed plan is to replace the existing embankment between the Low Flow Conveyance Channel and the Rio Grande with a structurally competent levee capable of containing high-volume, long-duration flows. This engineered levee would substantially reduce the risk of damage from floods emanating from the Rio Grande. The local cost-sharing sponsors of the proposed project are the Middle Rio Grande Conservancy District and the New Mexico Interstate Stream Commission.

FOR FURTHER INFORMATION CONTACT: Questions or comments regarding the draft SEIS can be answered by: William DeRagon, U.S. Army Corps of Engineers, 4101 Jefferson Plaza NE., Albuquerque, New Mexico 87109; telephone: (505) 342-3358; email: william.r.deragon@usace.army.mil.

SUPPLEMENTARY INFORMATION: Previously, an environmental impact statement and two supplements have been published regarding this project. A final environmental impact statement addressing a recommendation to construct flood and sediment control dams on the Rio Puerco and Rio Salado was filed with the Council on Environmental Quality in 1977. An SEIS evaluating the effects of the alternative to rehabilitate the existing spoil-bank levee system was filed with the Council on Environmental Quality in 1992. In May 1997, a draft SEIS evaluating the revised design of the proposed levee to withstand long-duration floods and evaluating effects to recently listed endangered species was filed with the U.S. Environmental Protection Agency; however, a final SEIS was not prepared. Currently, a new draft SEIS is being developed to evaluate effects of revised levee design and additional alternatives. The draft SEIS will be integrated with a draft General Reevaluation Report, and the integrated document is hereafter referred to as the draft GRR/SEIS-II.

Alternatives Considered: Alternatives developed and evaluated during the current effort and previous studies consist of levee reconstruction; flood and sediment control dams; local levees; intermittent levee replacement; watershed land treatment; floodproofing of buildings; levee-alignment setbacks; and no action.

Public Involvement: Coordination is ongoing with both public and private entities having jurisdiction or an interest in land and resources in the middle Rio Grande valley of New Mexico. These entities include the general public, local governments, the U.S. Bureau of Reclamation, the U.S. Fish and Wildlife Service, the New Mexico Department of Game and Fish, and the New Mexico State Historic Preservation Officer. Coordination will continue throughout the development of the draft GRR/SEIS-II.

Significant Issues To Be Analyzed: Issues to be analyzed in the development of the draft GRR/SEIS-II include the effect of alternatives on flood risk, floodplain development, water quality, ecological resources, endangered species, wildlife refuge objectives, social welfare, human safety, cultural resources, and aesthetic qualities. Development and implementation of mitigation measures will be undertaken for unavoidable effects.

Public Review: It is estimated that the draft GRR/SEIS-II will be circulated for public review in April 2012. All interested parties including Federal, state, and public entities will be invited to submit comments on the draft GRR/SEIS-II when it is circulated for review. A public meeting will be held during the public review period in Socorro, New Mexico. An announcement of the exact date and location of the public meeting will be published in the Federal Register, and in Socorro and Albuquerque newspapers.

Jason D. Williams,
Lieutenant Colonel, U.S. Army Corps of Engineers, District Engineer.

[FR Doc. 2012-5091 Filed 3-1-12; 8:45 am]

BILLING CODE 3720-58-P